PRIVACY AND CIVIL LIBERTIES OVERSIGHT BOARD

[Notice-PCLOB-2012-01; Docket No. 2012-0013; Sequence No. 1]

Sunshine Act; Notice of Meeting

TIME AND DATE: 10:00 a.m. to 1:00 p.m. (Eastern Time), Tuesday, October 30, 2012.

PLACE: GSA's National Capital Region Building, 301 7th Street SW., Conference Room 6067B (6th Floor), Washington, DC 20207.

STATUS: Parts will be open to the public and parts will be closed to the public.

Matters To Be Considered

Portion Open to the Public: 10:00 a.m. to Noon.

The Privacy and Civil Liberties Oversight Board will hold its first public meeting for the purpose of receiving the public's input on its forthcoming agenda. In anticipation of setting the agenda of issues on which the Board will focus its attention, the Board would welcome the views of nongovernmental organizations and members of the public. The Board expects to hold further meetings to consider particular issues in greater depth.

Procedures

Individuals wishing to address the meeting orally must provide advance notice to Matthew Conrad, at matthew.conrad@gsa.gov no later than 5:00 p.m. Friday, October 26, 2012. The notice must include the individual's name, title, organization, and a concise summary of the subject matter to be presented. Oral presentations may not exceed ten (10) minutes. The time for individual presentations will be reduced proportionately, if necessary, to afford all participants who have submitted a timely request an opportunity to be heard. Participants wishing to submit a written statement for the record must submit a copy of such statement no later than 5:00 p.m. Friday, October 26, 2012. Such statement must be typewritten, double-spaced, and may not exceed ten (10) pages. Upon receipt of the required notice, the Board will prepare an agenda, which will be available at the hearing, that identifies speakers and the time allotted for each presentation.

Portion Closed to the Public: Noon to 1:00 p.m.

Matters To Be Discussed

Personnel and staffing.

CONTACT PERSON FOR MORE INFORMATION: Matthew B. Conrad, Agency Liaison Division, U.S. General Services Administration, 202-690-8906.

Dated: October 18, 2012.
Patricia Wald,
PCLOB Member.

[FR Doc. 2012-26153 Filed 10-19-12; 11:15 am]

BILLING CODE 6820-34-P